NATIONAL SCIENCE FOUNDATION

Advisory Panel for Methods, Cross-Directorate and Science and Society; Notice of Meeting

In accordance with the Federal Advisory Committee Act (Pub. L. 92-463, as amended), the National Science Foundation (NSF) announces the following meetings of the Advisory Panel for Methods, Cross-Directorate and Science and Society (1760):

Date/Time: December 4-5, 2000, 8 a.m.-5 p.m.

Place: National Science Foundation, 4201 Wilson Blvd., Room 920, Arlington, VA.

Contact Person: Bonney H. Sheahan, Program Director for Cross Directorate Programs; National Science Foundation, 4201 Wilson Boulevard, Arlington, VA 22230. Telephone: (703) 292-8763.

Agenda: To review and evaluate REU proposals as part of the selection process for awards.

Date/Time: December 13-15, 2000; 8 a.m.-5 p.m.

Place: National Science Foundation, 4201 Wilson Blvd., Rm. 365/920, Arlington, VA.

Contact Person: Paul Chapin, Program Director for Cross Directorate Programs; National Science Foundation, 4201 Wilson Boulevard, Arlington, VA 22230. Telephone: (703) 292-1733.

Agenda: To review and evaluate Infrastructure proposals as part of the selection process for awards.

TYPE OF MEETINGS: Closed.

PURPOSE OF MEETINGS: To provide advice and recommendations concerning support for research proposals submitted to the NSF for financial support.

REASON FOR CLOSING: The proposals being reviewed include information of a proprietary or confidential nature, including technical information; financial data, such as salaries; and personal information concerning individuals associated with the proposals. These matters are exempt under 5 U.S.C. 552b(c), (4) and (6) of the Government in the Sunshine Act.

Dated: October 16, 2000.
Karen J. York,
Committee Management Officer.

[FR Doc. 00-26985 Filed 10-19-00; 8:45 am]

BILLING CODE 7555-01-M